DEPARTMENT OF AGRICULTURE

Animal and Plant Health Inspection Service

[Docket No. APHIS-2009-0037]

Determination of Pest-Free Areas in the Republic of South Africa; Request for Comments

AGENCY: Animal and Plant Health Inspection Service, USDA.

ACTION: Notice; extension of comment period.

SUMMARY: We are extending the comment period for our notice that would recognize 16 additional magisterial districts in 3 provinces as pest-free areas for citrus black spot in the Republic of South Africa. This action will allow interested persons additional time to prepare and submit comments.

DATES: We will consider all comments that we receive on or before October 13, 2009.

ADDRESSES: You may submit comments by either of the following methods:

• Federal eRulemaking Portal: Go to http://www.regulations.gov/fdmspublic/component/main?main=DocketDetail&d=APHIS-2009-0037 to submit or view comments and to view supporting and related materials available electronically.

• Postal Mail/Commercial Delivery: Please send two copies of your comment to Docket No. APHIS-2009-0037, Regulatory Analysis and Development, PPD, APHIS, Station 3A-03.8, 4700 River Road Unit 118, Riverdale, MD 20737-1238. Please state that your comment refers to Docket No. APHIS-2009-0037.

Reading Room: You may read any comments that we receive on this docket in our reading room. The reading room is located in Room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Mr. Phillip B. Grove, Regulatory Coordination Specialist, Regulatory Coordination and Compliance, PPQ, APHIS, 4700 River Road Unit 141, Riverdale, MD 20737; (301) 734-6280.

SUPPLEMENTARY INFORMATION: On July 27, 2009, we published in the Federal Register (74 FR 36999-37000, Docket No. APHIS-2009-0037) a notice of determination to recognize 16 additional magisterial districts in 3 provinces as pest-free areas for citrus black spot in the Republic of South Africa.

Comments on the notice were required to be received on or before September 25, 2009. We are extending the comment period on Docket No. APHIS-2009-0037 until October 13, 2009. This action will allow interested persons additional time to prepare and submit comments.

Authority: 7 U.S.C. 450, 7701-7772, and 7781-7786; 21 U.S.C. 136 and 136a; 7 CFR 2.22, 2.80, and 371.3.

Done in Washington, DC, this 3rd day of September 2009.
Kevin Shea,
Acting Administrator, Animal and Plant Health Inspection Service.

[FR Doc. E9-22225 Filed 9-14-09; 8:45 am]

BILLING CODE 3410-34-P